DEPARTMENT OF COMMERCE

International Trade Administration

(A-421-811)

Purified Carboxymethylcellulose from the Netherlands: Final Results of Antidumping Duty Administrative Review

AGENCY: Import Administration, International Trade Administration, Department of Commerce.

SUMMARY: On May 26, 2009, the Department of Commerce (the Department) published the preliminary results of the administrative review of the antidumping duty order on purified carboxymethylcellulose (CMC) from the Netherlands. See Purified Carboxymethylcellulose from the Netherlands; Preliminary Results of Antidumping Duty Administrative Review, 74 FR 24823 (May 26, 2009) (Preliminary Results). The merchandise covered by the order is purified CMC as described in the “Scope of the Order” section of this notice. The period of review (POR) is July 1, 2007, through June 30, 2008. We afforded interested parties an opportunity to comment on the Preliminary Results. We received comments from interested parties and, consequently, have made changes to our calculation based on our analysis of the comments received. Therefore, the final results differ from those published in the Department's Preliminary Results. The final weighted-average dumping margin for the reviewed firm is listed below in the section entitled “Final Results of the Review.”

EFFECTIVE DATE: October 14, 2009.

FOR FURTHER INFORMATION CONTACT: Patrick Edwards, Brian Davis, or Angelica Mendoza, AD/CVD Operations, Office 7, Import Administration, International Trade Administration, U.S. Department of Commerce, 14th Street and Constitution Avenue, NW, Washington, DC 20230; telephone: (202) 482-8029, (202) 482-7924, or (202) 482-3019, respectively.

SUPPLEMENTARY INFORMATION:

Background

On May 26, 2009, the Department published the preliminary results of the administrative review of the antidumping duty order covering purified CMC from the Netherlands. See Preliminary Results. The parties subject to this review are CP Kelco B.V. and its U.S. affiliate, CP Kelco U.S., Inc. (collectively, CP Kelco). The petitioner in this proceeding is The Aqualon Company, a division of Hercules Incorporated (petitioner).

We invited interested parties to comment on the Preliminary Results. On June 26, 2009, CP Kelco timely filed its comments on the Preliminary Results and requested a public hearing. See Case Brief from Arent Fox LLP (counsel for respondent) titled “Purified Carboxymethylcellulose from the Netherlands; Case Brief of CP Kelco B.V.,” dated June 26, 2009 (Case Brief). On June 30, 2009, petitioner timely submitted comments in lieu of a formal brief in reply to the June 26, 2009, case brief filed by CP Kelco. See Letter from Haynes & Boone, LLP, regarding “Comment by Petitioner Aqualon Company in Lieu of Reply Brief,” dated June 30, 2009. On July 2, 2009, CP Kelco withdrew its request for a public hearing. See CP Kelco's letter regarding “Withdrawal of Hearing Request,” dated July 2, 2009. On July 15, 2009, counsel for CP Kelco met with Department officials. See Ex-parte Memorandum to the File through Angelica L. Mendoza, Program Manager, Office 7, from Patrick Edwards and Brian Davis, Case Analysts, titled “Administrative Review of the Antidumping Duty Order on Purified Carboxymethylcellulose from Netherlands: Meeting with Counsel for Respondent,” dated July 17, 2009.

Scope of the Order

The merchandise covered by the order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to the order is classified in the Harmonized Tariff Schedule of the United States at subheading 3912.31.00. This tariff classification is provided for convenience and customs purposes; however, the written description of the scope of the order is dispositive.

Analysis of Comments Received

All issues raised in CP Kelco's case brief and petitioner's comment in lieu of a formal reply brief are addressed in the Memorandum from John M. Andersen, Acting Deputy Assistant Secretary for Antidumping and Countervailing Duty Operations, to Ronald K. Lorentzen, Acting Assistant Secretary for Import Administration, “Issues and Decision Memorandum for the Final Results of the Antidumping Duty Administrative Review of Purified Carboxymethylcellulose from the Netherlands,” dated October 7, 2009 (Issues and Decision Memorandum), which is hereby adopted by this notice. A list of the issues raised, all of which are in the Issues and Decision Memorandum, is attached to this notice as Appendix I. Parties can find a complete discussion of all issues raised in the brief and rebuttal and the corresponding recommendations in this public memorandum which is on file in the Central Records Unit, room 1117 of the main Department of Commerce building. In addition, a complete version of the Issues and Decision Memorandum can be accessed directly on the Web at http://www.trade.gov/ia/. The paper copy and electronic version of the Issues and Decision Memorandum are identical in content.

Changes Since the Preliminary Results

Based on our analysis of the comments received from the interested parties, we have made changes to the margin calculation for CP Kelco, in order to account for CP Kelco's factoring expenses as a direct selling expense. For a discussion of the changes which the Department has made to the margin calculation for CP Kelco, see “Memorandum to the File: Final Results of Antidumping Duty Administrative Review of Purified Carboxymethylcellulose from the Netherlands: Analysis of the Sales Responses Submitted by CP Kelco B.V.,” dated October 7, 2009. A public version of this memorandum is on file in the Central Records Unit.

Final Results of the Review

We determine the following percentage weighted-average margin exists for the period July 1, 2007, through June 30, 2008:

Manufacturer / Exporter | Weighted-Average Margin (Percentage)
CP Kelco B.V. | 24.23 percent

Assessment

The Department shall determine, and U.S. Customs and Border Protection (CBP) shall assess, antidumping duties on all appropriate entries. In accordance with 19 CFR 351.212(b)(1), the Department normally calculates an assessment rate for each importer of the subject merchandise covered by the review. CP Kelco has reported entered values for all of its sales of subject merchandise to the United States during the POR. Therefore, in accordance with 19 CFR 351.212(b)(1), we have calculated importer-specific duty assessment rates by dividing the dumping margin found on the subject merchandise examined by the entered value of such merchandise for normal customs duty purposes.¹ These rates will be assessed uniformly on all entries of the respective importers made during the POR. Where the assessment rate is above de minimis, we will instruct CBP to assess duties on all entries of subject merchandise by that importer. The Department intends to issue assessment instructions directly to CBP 15 days after publication of these final results of review.

¹ In instances where the importer is unknown (e.g., EP sales), we have calculated customer-specific duty assessment rates.

The Department clarified its “automatic assessment” regulation on May 6, 2003. This clarification will apply to entries of subject merchandise during the POR produced by reviewed companies for which these companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective upon publication of this notice of final results of administrative review for all shipments of purified CMC from the Netherlands entered, or withdrawn from warehouse, for consumption on or after the date of publication, as provided by section 751(a)(1) of the Tariff Act of 1930, as amended (the Act): (1) The cash deposit rate for CP Kelco will be the rate established in the final results of this review; (2) for merchandise exported by manufacturers or exporters not covered in this review but covered in the original less-than-fair-value (LTFV) investigation or previous reviews, the cash deposit rate will continue to be the company-specific rate published for the most recent period; (3) if the exporter is not a firm covered in this or any previous review or the LTFV investigation, but the manufacturer is, the cash deposit rate will be the rate established for the most recent period for the manufacturer of the merchandise; and (4) if neither the exporter nor the manufacturer is a firm covered in this or any previous review or the LTFV investigation conducted by the Department, the cash deposit rate will be the all-others rate of 14.57 percent from the LTFV investigation. See Notice of Antidumping Duty Orders: Purified Carboxymethylcellulose from Finland, Mexico, the Netherlands and Sweden, 70 FR 39734 (July 11, 2005). These cash deposit requirements shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding Administrative Protective Orders

This notice also serves as a reminder to parties subject to administrative protective orders (APO) of their responsibility concerning the return or destruction of proprietary information disclosed under APO in accordance with 19 CFR 351.305(a)(3). Timely written notification of the return or destruction of APO materials or conversion to judicial protective order is hereby requested. Failure to comply with the regulations and terms of an APO is a violation that is subject to sanction.

We are issuing and publishing this notice in accordance with sections 751(a)(1) and 777(i)(1) of the Act.

Dated: October 7, 2009.
Ronald K. Lorentzen,
Acting Assistant Secretary for Import Administration.

Appendix I

Comment in the Issues and Decision Memorandum:

Comment 1: The Department's Use of Factoring Discounts

[FR Doc. E9-24700 Filed 10-13-09; 8:45 am]

BILLING CODE 3510-DS-S